NATIONAL AERONAUTICS AND SPACE ADMINISTRATION

Centennial Challenges 2009 Power Beaming and Tether Challenges

AGENCY: National Aeronautics and Space Administration (NASA).

NOTICE: (09-012).

ACTION: Notice of Centennial Challenges 2009 Power Beaming and Tether Challenges.

SUMMARY: This notice is issued in accordance with 42 U.S.C. 2459f-1(d). The 2009 Power Beaming and Tether Challenges are now scheduled and teams that wish to compete may now register. The NASA Centennial Challenges Program is a program of prize contests to stimulate innovation and competition in space exploration and ongoing NASA mission areas. The 2009 Power Beaming Challenge is a prize contest designed to promote the development of new power distribution technologies. The 2009 Tether Challenge is a prize contest designed to develop very strong tether material for use in various structural applications. The Spaceward Foundation is administering both Challenges for NASA.

DATES: The 2009 Power Beaming and Tether Challenges will be held from April 29 through May 1, 2009.

ADDRESSES: The 2009 Power Beaming and Tether Challenges will be held at the Innovative Science and Technology Experimental Facility (ISTEF), Kennedy Space Center, FL 32899.

FOR FURTHER INFORMATION CONTACT: To register for and get additional information regarding the 2009 Power Beaming and Tether Challenges, visit: http://www.spaceward.org/ or contact Mr. Ben Shelef at the Spaceward Foundation, 725 N. Shoreline Blvd., Mountain View, CA 94043, Phone: 650-965-2900. Questions and comments regarding the NASA Centennial Challenges Program should be addressed to Mr. Andrew Petro, NASA Headquarters, Suite 6J79, 300 E Street, SW., Washington, DC 20546, Phone: 202-358-0310. The Centennial Challenges Web site is http://centennialchallenges.nasa.gov/.

SUPPLEMENTARY INFORMATION: The maximum prize purse available for the 2009 Power Beaming Challenge is $2,000,000. The maximum prize purse available for the 2009 Tether Challenge is $2,000,000. NASA prizes can only be awarded to U.S. citizens. Additional information regarding the challenges including rules, team agreements, eligibility, and prize criteria can be found at: http://www.spaceward.org/.

Dated: February 13, 2009.
Douglas A. Comstock,
Director, Innovative Partnerships Program Office.

[FR Doc. E9-3712 Filed 2-19-09; 8:45 am]

BILLING CODE 7510-13-P